DEPARTMENT OF THE INTERIOR

Fish and Wildlife Service

[Docket No. FWS-HQ-IA-2017-0079; FF09A30000-189-FXIA16710900000]

Conference of the Parties to the Convention on International Trade in Endangered Species of Wild Fauna and Flora (CITES); Eighteenth Regular Meeting: Taxa Being Considered for Amendments to the CITES Appendices and Proposed Resolutions, Decisions, and Agenda Items Being Considered; Observer Information

AGENCY: Fish and Wildlife Service, Interior.

ACTION: Notice.

SUMMARY: The United States, as a Party to the Convention on International Trade in Endangered Species of Wild Fauna and Flora (CITES), may propose amendments to the CITES Appendices for consideration at meetings of the Conference of the Parties. The eighteenth regular meeting of the Conference of the Parties to CITES (CoP18) is scheduled to be held in Colombo, Sri Lanka, May 23 to June 3, 2019. With this notice, we describe proposed amendments to the CITES Appendices (species proposals) as well as proposed resolutions, decisions, and agenda items that the United States might submit for consideration at CoP18; invite your comments and information on these proposals; and provide information on how U.S. nongovernmental organizations can attend CoP18 as observers.

DATES:

Meeting: The meeting is scheduled to be held in Colombo, Sri Lanka, May 23 to June 3, 2019.

Submitting Information and Comments: We will consider written information and comments we receive by November 30, 2018.

Requesting Approval to Attend CoP18 as an Observer: We must receive your request no later than February 15, 2019 (see ADDRESSES).

ADDRESSES: Obtaining Documents: Access the extended version of this notice, as well as comments and materials we receive in response to this notice, via either of the following methods:

• Internet: http://www.regulations.gov. Search for Docket No. FWS-HQ-IA-2017-0079.

• Hard copies: View documents by appointment between 8 a.m. and 4 p.m., Monday through Friday, except Federal holidays, at the U.S. Fish and Wildlife Service, Divisions of Management and Scientific Authorities, 5275 Leesburg Pike, Falls Church, VA 22041-3803. To make an appointment, call 703-358-2095 or 703-358-1708.

Submitting Information and Comments: You may submit comments pertaining to species proposals for consideration and to proposed resolutions, decisions, and agenda items for discussion at CoP18 by one of the following methods:

• Internet: http://www.regulations.gov. Search for and submit comments on Docket No. FWS-HQ-IA-2017-0079.

• Hard copy: Submit by U.S. mail or hand-delivery to Public Comments Processing; Attn: Docket No. FWS-HQ-IA-2017-0079; U.S. Fish and Wildlife Service; MS: BPHC; 5275 Leesburg Pike, Falls Church, VA 22041-3803. Internet: http://www.regulations.gov. Search for Docket No. FWS-HQ-IA-2017-0079.

We will not consider comments sent by email or fax, or to an address not listed in ADDRESSES. We will post all comments on http://www.regulations.gov. This generally means that we will post any personal information you provide us. If you submit a comment via http://www.regulations.gov, your entire comment—including any personal identifying information—will be posted on the website. If you submit a hardcopy comment that includes personal identifying information, you may request at the top of your document that we withhold this information from public review. However, we cannot guarantee that we will be able to do so. We will post all hardcopy comments on http://www.regulations.gov.

Requesting Approval to Attend CoP18 as an Observer: Send your request via U.S. mail to the Division of Management Authority, U.S. Fish and Wildlife Service, 5275 Leesburg Pike, MS: IA, Falls Church, VA 22041; or via email to managementauthority@fws.gov.

FOR FURTHER INFORMATION CONTACT: For information pertaining to species proposals, contact Rosemarie Gnam, Chief, Division of Scientific Authority, at 703-358-1708 (phone); 703-358-2276 (fax); or scientificauthority@fws.gov (email).

For information pertaining to resolutions, decisions, and agenda items, contact Laura Noguchi, Branch Chief, Division of Management Authority, at 703-358-2028 (phone); 703-358-2298 (fax); or managementauthority@fws.gov (email).

If you use a telecommunications device for the deaf (TDD), call the Federal Relay Service at 800-877-8339.

SUPPLEMENTARY INFORMATION: The United States (or we), as a Party to the Convention on International Trade in Endangered Species of Wild Fauna and Flora (CITES, or the Convention), may propose amendments to the CITES Appendices for consideration at meetings of the Conference of the Parties. The eighteenth regular meeting of the Conference of the Parties to CITES (CoP18) is scheduled to be held in Colombo, Sri Lanka, May 23 to June 3, 2019. With this notice, we describe proposed amendments to the CITES Appendices (species proposals) as well as proposed resolutions, decisions, and agenda items that the United States might submit for consideration at CoP18; invite your comments and information on these proposals; and provide information on how U.S. nongovernmental organizations can attend CoP18 as observers.

Background

CITES is an international treaty designed to control and regulate international trade in certain animal and plant species that are affected by trade and are now, or potentially may become, threatened with extinction. These species are included in the Appendices to CITES, which are available on the CITES Secretariat's website at https://www.cites.org. Currently there are 183 Parties to CITES—182 countries, including the United States, and one regional economic integration organization, the European Union. The Convention calls for regular biennial meetings of the Conference of the Parties, unless the Conference decides otherwise. At these meetings, the Parties review the implementation of CITES, make provisions enabling the CITES Secretariat in Switzerland to carry out its functions, consider amendments to the list of species in Appendices I and II, consider reports presented by the Secretariat, and make recommendations for the improved effectiveness of CITES. Any country that is a Party to CITES may propose amendments to Appendices I and II, as well as resolutions, decisions, and agenda items for consideration by all the Parties. Our regulations governing this public process are found in 50 CFR 23.87.

This is our third notice in a series of Federal Register notices that, together with an announced public meeting (time and place to be announced), provide you with an opportunity to participate in the development of the U.S. submissions and negotiating positions for the eighteenth regular meeting of the Conference of the Parties to CITES (CoP18), which is scheduled to be held in Colombo, Sri Lanka, May 23 to June 3, 2019. We published our first CoP18-related Federal Register notice on January 23, 2018 (83 FR 3179); this notice requested information and recommendations on animal and plant species proposals for the United States to consider submitting for consideration at CoP18. On March 12, 2018 (83 FR 10736), we published our second notice, in which we requested information and recommendations on proposed resolutions, decisions, and agenda items for the United States to consider submitting for consideration at CoP18, and provided preliminary information on how to request approved observer status for nongovernmental organizations that wish to attend the meeting. Comments received on those two notices may be viewed at http://www.regulations.gov in Docket No. FWS-HQ-IA-2017-0079.

Recommendations for Species Proposals for the United States To Consider Submitting for CoP18

In response to our January 2018 notice, we received 17 recommendations from 3 individuals and the following 14 organizations for possible proposals involving over 200 taxa (6 mammals, 23 birds, 78 reptiles, 41+ sharks/rays, 5 bony fish, 64+ invertebrates, and 32 plants): The American Herbal Products Association (AHPA); Ginseng Board of Wisconsin; Center for Biological Diversity (CBD); Robin des Bois; Humane Society International (HSI); Pew Charitable Trusts; Species Survival Network (SSN); Wildlife Conservation Society (WCS); International Wood Products Association; League of American Orchestras; The Ornithological Council; Sustainable Fisheries Association, Inc. (SFA); Safari Club International (SCI); and Safari Club International Foundation (SCI Foundation). Additionally, the United States may submit one plant species proposal currently under periodic review by the Plants Committee and one animal species proposal that previously underwent periodic review by the Animals Committee.

We have undertaken initial evaluations of the available trade and biological information on many of these taxa. Based on the information available, we made provisional evaluations of whether to proceed with the development of proposals for species to be included in, removed from, or transferred between the CITES Appendices. We made these evaluations by considering the best information available on the species; the presence, absence, and effectiveness of other mechanisms that may preclude the need for species' inclusion in the CITES Appendices (e.g., range country actions or other international agreements); and availability of resources. We have also considered the following factors, as per the U.S. approach for CoP18 discussed in our January 23, 2018, Federal Register notice:

(1) Does the proposed action address a serious wildlife or plant trade issue that the United States is experiencing as a range country for species in trade?

(2) Does the proposed action address a serious wildlife or plant trade issue for species not native to the United States?

(3) Does the proposed action provide additional conservation benefit for a species already covered by another international agreement?

Based on our initial evaluations, we have assigned each taxon to one of three categories, which reflects the likelihood of our submitting a proposal. In sections A, B, and C below, we have listed the current status of each species proposal recommended by the public, as well as species proposals we have been developing on our own. Please note that we have only provided here a list of taxa and the proposed action. We have posted an extended version of this notice on our website, at http://www.fws.gov/international/publications-and-media/federal-register-notices.html, with text describing in more detail certain proposed action and explaining the rationale for the tentative U.S. position on these possible proposals. Copies of the extended version of the notice are also available from the Division of Scientific Authority at the above address or at http://www.regulations.gov at Docket No. FWS-HQ-IA-2017-0079.

We welcome your comments, especially if you are able to provide any additional biological or trade information on these species.

A. What species proposals will the United States likely submit for consideration at CoP18?

None.

B. On what species proposals is the United States still undecided, pending additional information and consultations?

The United States is still undecided on whether to submit CoP18 proposals for the following taxa. In most cases, we have not completed our consultations with relevant range countries. In other cases, we expect meetings to occur in the immediate future, at which participants will generate important recommendations, trade analyses, or biological information on the taxon in question that may be useful to our final decision-making. In addition one of the taxa in this section is undergoing review through the periodic review of the CITES Appendices by the Plants Committee (PC), in accordance with Resolution Conf. 14.8 (Rev. CoP17), and one has undergone periodic review by the Animals Committee (AC) at AC25. This is a regular process under CITES to evaluate whether listings of taxa in CITES Appendices I and II continue to be appropriate, based on current biological and trade information. These taxa are at various stages in the periodic review process. This process includes an initial assessment that is put before the appropriate Committee (Plants or Animals) for discussion, which may result in an AC or PC recommendation that a taxon be uplisted (transferred from Appendix II to Appendix I); that a taxon be downlisted (transferred from Appendix I to Appendix II, or deleted from Appendix II); or that no change be made to the listing.

Plants

1. Saw-toothed lewisia (Lewisia serrata)—Potential amendment to Appendix II-listing.

2. Frankincense (Boswellia spp.)—Inclusion in Appendix II.

3. Ginseng (Panax quinquefolius)—Amend current annotation to exclude sliced ginseng roots from CITES control.

Invertebrates

4. Ornamental/parachute spider/tarantula species (Poecilotheria spp.)—Inclusion in Appendix II.

5. Two families of sea cucumbers (Holothuridae and Stichopodidae)—Inclusion in Appendix II.

6. Sea cucumbers found in U.S. native waters: Pepino de mar (Actinopyga agassizii), deepwater redfish (A. echinites), stonefish (A. lecanora), surf redfish (A. mauritiana), blackfish (A. miliaris), giant California sea cucumber (Apostichopus californicus), warty sea cucumber (A. parvimensis), furry sea cucumber (Astichopus multifidus), leopard fish (Bohadschia argus), brown sandfish (B. vitiensis), orange-footed sea cucumber (Cucumaria frondosa), teripang (Holothuria arenicola), lollyfish (H. atra), Zanga fleur (H. cinerascens), snakefish (H. coluber), Pinkfish (H. edulis), red snakefish (H. flavomaculata), Floridian (Holothuria floridana), Labuyo (H. fuscocinerea), white teatfish (H. fuscogilva), elephant trunkfish (H. fuscopunctata), tigertail (H. hilla), spotted sea cucumber (H. impatiens), golden sandfish (H. lessoni), white threadfish (H. leucospilota), Pepino de mar (H. mexicana), Bantunan (H. pardalis), no common name (H. pervicax), tubular (H. tubulosa), black teatfish (H. whitmaei), four-sided sea cucumber (Isostichopus badionotus), blackspotted sea cucumber (Pearsonothuria graeffei), greenfish (Stichopus chloronotus), curryfish (S. herrmanni), Selenka's sea cucumber (S. horrens), prickly redfish (Thelenota ananas), amber fish (T. anax), and lemonfish (T. rubralineata)—Inclusion in Appendix II.

7. Sea cucumbers not found in U.S. native waters: Deepwater blackfish (Actinopyga palauensis), burying blackfish (A. spinea), Japanese sea cucumber (Apostichopus japonicus), brown-spotted sandfish (Bohadschia marmorata), Falalyjaka (B. subrubra), Japanese cucumaria (Cucumaria japonica), black teatfish (Holothuria nobilis), sandfish (H. scabra), brown sea cucumber (Isostichopus fuscus), Selenka's sea cucumber (Stichopus monotuberculatus), and Selenka's sea cucumber (S. naso)—Inclusion in Appendix II.

Fishes

8. All guitarfish (31 species of guitarfish are found worldwide; 3 of these species are found in U.S. waters and are categorized as undecided)—Inclusion in Appendix II.

9. Lined seahorse (Hippocampus erectus)—Transfer from Appendix II to Appendix I.

10. Dwarf seahorse (Hippocampus zosterae)—Transfer from Appendix II to Appendix I.

11. Slender seahorse (Hippocampus reidi)—Transfer from Appendix II to Appendix I.

Reptiles

12. Tokay gecko (Gekko gecko)—Inclusion in Appendix II.

13. Blue-spotted tree monitor (Varanus macraei)—Transfer from Appendix II to Appendix I.

14. Pancake tortoise (Malacochersus tornieri)—Transfer from Appendix II to Appendix I.

Birds

15. Straw-headed bulbul (Pycnonotus zeylanicus)—Transfer from Appendix II to Appendix I.

16. Neotropical tanager species: Golden tanager (Tangara arthus), opal-crowned tanager (Tangara callophrys), burnished-buff tanager (Tangara cayana), paradise tanager (Tangara chilensis), golden-eared tanager (Tangara chrysotis), blue-necked tanager (Tangara cyanicollis), blue-browed tanager (Tangara cyanotis), bay-headed tanager (Tangara gyrola), silver-throated tanager (Tangara icterocephala), golden-hooded tanager (Tangara larvata), turquoise tanager (Tangara mexicana), beryl-spangled tanager (Tangara nigroviridis), flame-faced tanager (Tangara parzudakii), spotted tanager (Tangara punctata), green-and-gold tanager (Tangara schrankii), opal-rumped tanager (Tangara velia), and saffron-crowned tanager (Tangara xanthocephala)—Inclusion in Appendix II.

17. Attwater's prairie chicken (Tympanuchus cupido attwateri)—Remove from Appendix II.

Mammals

18. Saiga antelope (Saiga tatarica)—Transfer from Appendix II to Appendix I.

19. Markhor (Capra falconeri)—Transfer from Appendix I to Appendix II.

C. For which species is the United States not likely to submit proposals for consideration at CoP18, unless we receive significant additional information?

The United States does not intend to submit proposals for the following taxa unless we receive significant additional information indicating that a proposal is warranted.

Plants

1. Dalbergia and other wood products (especially for musical instruments)—Revision of Annotation #15.

Invertebrates

2. Wallace's giant bee (Megachile pluto, synonym Chalicodoma pluto)—Inclusion in Appendix I.

Fishes

3. Atlantic spiny dogfish (Squalus acanthias)—Inclusion in Appendix I or Appendix II (as recommended by the commenter—we are unlikely to submit a proposal).

4. All sharks and rays in international trade—Inclusion in Appendix II.

5. Shortfin mako shark (Isurus paucus)—Inclusion in Appendix II.

6. All wedgefish—Inclusion in Appendix II.

7. All guitarfish (31 species of guitarfish are found worldwide; 28 of these species are not found in U.S. waters and are categorized as not likely to be submitted)—Inclusion in Appendix II.

8. American eel (Anguilla rostrata)—Inclusion in Appendix II.

9. Tiger-tail seahorse (Hippocampus comes)—Transfer from Appendix II to Appendix I.

Reptiles

10. Shaw's Sea Snake (Hydrophis curtus)—Inclusion in Appendix II.

11. Eurasian viper species: Cyclades blunt-nosed viper (Macrovipera schweizeri), mountain viper (Montivipera albizona), Anatolian meadow viper (Vipera anatolica), snub-nosed viper (Vipera latastei), Caucasus viper (Vipera kaznakovi), Black Sea viper (Vipera pontica), nose-horned viper (Vipera ammodytes), Orlov's viper (Vipera orlovi), magnificent viper (Vipera magnifica), asp viper (Vipera aspis), Darevsky's viper (Vipera darevskii), and Caucasus subalpine viper (Vipera dinniki)—Inclusion in Appendix II or Appendix I.

12. South African puff adder species: Albany adder (Bitis albanica), southern adder (Bitis armata), many-horned adder (Bitis cornuta), plain mountain adder (Bitis inornata), red adder (Bitis rubida), and Namaqua dwarf adder (Bitis schneideri)—Inclusion in Appendix II.

13. American rattlesnake species (Crotalus spp.)—Inclusion in Appendix II.

14. Neotropical wood turtle species: Painted wood turtle (Rhinoclemmys pulcherrima) and spot-legged wood turtle (R. punctularia)—Inclusion in Appendix II.

15. North American map turtles (Graptemys spp.): Barbour's map turtle (G. barbouri), Cagle's map turtle (G. caglei), Escambia map turtle (G. ernsti), yellow-blotched map turtle (G. flavimaculata), northern map turtle (G. geographica), Pascagoula map turtle (G. gibbonsi), black-knobbed map turtle (G. nigrinoda), ringed map turtle (G. oculifera), Ouachita map turtle (G. ouachitensis), Pearl River map turtle (G. pearlensis), false map turtle (G. pseudogeographica), Alabama map turtle (G. pulchra), and Texas map turtle (G. versa)—Transfer from Appendix III to Appendix II.

16. Alligator snapping turtle (Macrochelys temminckii)—Transfer from Appendix III to Appendix II.

Birds

17. Four Indo-Pacific bird species: Loria's bird-of-paradise (Cnemophilus loriae), crested bird-of-paradise (C. macgregorii), yellow-breasted bird-of-paradise (Loboparadisea sericea), and Macgregor's bird-of-paradise (Macgregoria pulchra)—Removal from Appendix II.

18. Andean flamingo (Phoenicoparrus andinus)—Transfer from Appendix II to Appendix I.

Mammals

19. Hippopotamus (Hippopotamus amphibius)—Transfer from Appendix II to Appendix I.

20. Narwhal (Monodon monoceros)—Transfer from Appendix II to Appendix I.

21. Walrus (Odobenus rosmarus)—Transfer from Appendix III to Appendix I; or Transfer Pacific walrus subspecies (O. r. divergens) from Appendix III to Appendix I and Transfer Atlantic (O. r. rosmarus) and Laptev (O. r. laptevi) walrus subspecies from Appendix III to Appendix II.

22. Polar bear (Ursus maritimus)—Transfer from Appendix II to Appendix I.

Recommendations for Resolutions, Decisions, and Agenda Items for the United States To Consider Submitting for CoP18

In our Federal Register notice published on March 12, 2018 (83 FR 10736), we requested information and recommendations on potential resolutions, decisions, and agenda items for the United States to submit for consideration at CoP18. We received information and recommendations from the following organizations: American Federation of Musicians of the United States and Canada; American Federation of Violin and Bow Makers; Animal Welfare Clinic at Michigan State University College of Law; Animal Welfare Institute; Center for Biological Diversity; C.F. Martin & Co., Inc.; Chamber Music America; Fender Musical Instruments Corporation; Forest Based Solutions; Ginseng Board of Wisconsin; Humane Society International; International Association of Violin and Bow Makers; International Wood Products Association; League of American Orchestras; National Association of Music Merchants; Natural Resources Defense Council; OPERA America; Organization of Professional Aviculturists; Performing Arts Alliance; Paul Reed Smith Guitars; Species Survival Network; Taylor Guitars; Theatre Communications Group; The Recording Academy; WildCat Conservation Legal Aid Society; Wildlife Conservation Society; and World Animal Protection. We also received comments from one individual. In addition, we received comments from Center for Biological Diversity and Organization of Professional Aviculturists related to proposals to amend the CITES Appendices and from 16 of the above commenters related to expanding the number of designated U.S. ports for CITES exports. These comments were outside the scope of this action.

We considered all of the recommendations of the above individual and organizations, as well as the factors described in the U.S. approach for CoP18 discussed in our January 23, 2018, Federal Register notice, when compiling a list of resolutions, decisions, and agenda items that the United States is likely to submit for consideration by the Parties at CoP18. We also compiled lists of resolutions, decisions, and agenda items for consideration at CoP18 that the United States either is currently undecided about submitting, is not considering submitting at this time, or plans to address in other ways. In compiling these lists, we also considered potential submissions that we identified internally. The United States may consider submitting documents for some of the issues for which it is currently undecided or not considering submitting at this time, depending on the outcome of discussions of these issues in the CITES Standing Committee, additional consultations with range country governments and subject matter experts, or comments we receive during the public comment period for this notice.

Please note that, under A, B, and C below, we have listed those resolutions, decisions, and agenda items that the United States is likely to submit, currently undecided about submitting, or currently planning not to submit. We have posted a supplementary document on our website at http://www.fws.gov/international/CITES/CoP18/index.html and at http://www.regulations.gov, with text describing in more detail each of these issues and explaining the rationale for the tentative U.S. position on each issue. Copies of the supplementary document are also available from the Division of Management Authority at the address in ADDRESSES.

We welcome your comments and information regarding the resolutions, decisions, and agenda items that the United States is likely to submit, currently undecided about submitting, or currently planning not to submit.

A. What resolutions, decisions, and agenda items is the United States likely to submit for consideration at CoP18?

Strategy for CITES capacity-building efforts: The United States is considering submission of a document calling on the CITES parties to develop a framework for CITES capacity building that facilitates Party and donor coordination, transparency, and accountability across an array of needs and investments. This may include suggestion of a framework and a method to identify and track outstanding needs as well as recommendations for measuring progress toward shared goals to start the discussion.

Elephant conservation: The United States is considering submission of a document that will address the conservation of Asian and African elephants either through a new resolution or decisions or amendment of existing resolutions or decisions.

B. On what resolutions, decisions, and agenda items is the United States still undecided, pending additional information and consultations?

1. Pangolin and Appendix-I specimens acquired prior to Appendix-I uplisting: Recommendation that the United States continue its work to combat trafficking of pangolins by ensuring that stockpiles of scales and live animals are not traded on the basis of fraudulent CITES exceptions or unsupported legal theories.

2. Elephant: Recommendation that the United States support efforts to reduce the illegal and legal ivory trade to put an end to the ongoing poaching of elephants and to ensure that adequate safeguards are in place to protect wild elephants; recommendation that if the United States submits a document on the issue of appropriate and acceptable destinations that it first consult with range states and relevant experts and take into account the view of the majority of the African elephant range states that wild elephants should only be destined to in situ conservation projects.

3. National ivory action plans (NIAPs): Recommendation that the United States present options for further strengthening progress with Parties' implementation of their NIAPs processes—possibly through submission of draft text amending Resolution Conf. 10.10 (Rev. CoP17), on Trade in elephant specimens.

4. Grey parrot: Recommendation that the United States propose that the considerations given to the evaluation of applications to register facilities that breed African grey parrot (Psittacus erithacus) for commercial purposes in Decision 17.258 be extended until the 20th meeting of the Conference of the Parties (CoP20).

5. Eel: Recommendation that the United States submit a draft resolution on conservation of Anguilla species.

6. CITES National Legislation Project: Recommendation that the United States submit or co-sponsor and develop a draft resolution to amend Resolution Conf. 8.4 (Rev. CoP15), National laws for implementation of the Convention, to provide clear guidelines as to the criteria for inclusion in Categories 1, 2, and 3 (including coverage of all CITES taxa, including marine species). Recommendation that the United States submit a document on this issue, or otherwise to ensure that it is on the agenda of the CoP; further, recommendation that the United States raise this issue at the July 2018 meeting of the Food and Agriculture Organization of the United Nations (FAO) Committee on Fisheries, as it will not meet again prior to CoP18.

7. Appendix-I specimens acquired prior to Appendix-I uplisting and Resolution Conf. 13.6 (Rev. CoP16), Implementation of Article VII, paragraph 2, concerning “pre-Convention” specimens, interpretation issues: Recommendation that the United States submit a document clarifying this issue, and reject the Secretariat's views in SC69 Doc. 57. Recommendation that the United States ensure that the document to be prepared by the Secretariat is balanced and legally accurate; that the United States not rely only on the potential document from the Secretariat, but to also submit its own document on the issue for consideration by CoP18, and also ensure that the issue is discussed as a standalone agenda item so that the issue obtains the full discussion and understanding of the CITES Parties.

8. Marine ornamental fishes: Recommendation that the United States consider submitting an agenda item for discussion at CoP18 on trade in marine ornamental fishes.

9. International travel with musical instruments: Recommendation that the United States seek outcomes at CoP18 that will advance CITES policies related to international travel with musical instruments containing protected species material. Recommendation that since the United States initiated the creation of the Musical Instrument Certificate, it should lead an effort towards improvements in this area by proactively submitting a proposal to fully implement a “personal effects” exemption for those instruments containing protected species that are carried in personal accompanying baggage. Recommendation that the United States advance consideration of permit exemptions for musical instruments transported by cargo under a carnet.

10. Trade and commerce in wood species: Recommendation that any revision to Annotation #15, and annotations more broadly, account for and prevent potential unintended consequences for trade, allow appropriate timeframes for implementation, and can be supported through harmonized interpretations across CITES Parties.

C. What resolutions, decisions, and agenda items is the United States not likely to submit for consideration at CoP18, unless we receive significant additional information?

1. Totoaba and vaquita: Recommendation that the United States propose and champion the imposition of sanctions against Mexico pursuant to Article VIII of CITES and CITES Resolution Conf. 11.3 (Rev. CoP17), on Compliance and enforcement, and Resolution Conf. 14.3, on CITES compliance procedures, since, according to the commenters, the vaquita porpoise (Phocoena sinus) is on the brink of extinction and the ongoing failure of the government of Mexico to enact and enforce rules and policies to fully protect the vaquita and its habitat and to address the blatant illegal fishing for totoaba (Totoaba macdonaldi). Recommendation that the United States propose that CITES recommend that all Parties cease all wildlife trade with Mexico until it creates a management strategy and plan concerning totoaba and vaquita that meets or exceeds the standards presented by the commenters.

2. Trade in biosynthetic plant and wildlife material: Recommendation that the United States, given the U.S. significant investments in demand reduction and enforcement, to continue its work with regard to biosynthetic products of or made from CITES-listed species.

3. Sharks and rays: Recommendation that the United States ensure that the outcomes of the shark working groups and deliberations of the Standing and Animals Committees are on the agenda of CoP18, as a separate agenda item. The Standing Committee has agreed to discuss several issues, including the following, which the commenter recommends that the United States ensure are highlighted in CoP discussions: Chain of custody issues, marking and traceability issues, the making of legal acquisition findings, catch documentation and product certification schemes, and the role of Regional Fisheries Management Organizations. Recommendation that the United States ensure a discussion at the CoP on capacity building needs in the issuance of non-detriment findings for sharks and rays on the CITES Appendices.

4. Elephants—domestic ivory markets: Recommendation that the United States report on implementation of Resolution Conf. 10.10 (Rev. CoP17) on Trade in elephant specimens, with a particular focus on the successful enforcement of new laws on domestic ivory trade, work with other Parties to close their ivory markets as a matter of urgency, and ensure that the issue is discussed at CoP18. According to the commenter, paragraph 3 of Resolution Conf. 10.10 (Rev. CoP17) can be misconstrued to mean that some Parties with open domestic ivory markets are not obligated to take further action to close their markets if they believe they are not contributing significantly to illegal trade and the commenter believes that all such markets contribute to poaching of elephants and illegal ivory trade, facilitate laundering, foster demand for ivory, and undermine the conservation efforts of elephant range States. Therefore, recommendation that the United States work with other Parties to amend paragraph 3 accordingly.

5. Leopard quotas: Recommendation that the United States track the information being provided on existing leopard quotas. Based upon this information and other available information, recommendation that the United States ensure that reasonable quotas are set that are not detrimental to the survival of the species. Recommendation that the United States submit a document for consideration at CoP18 that recommends that there be full scientific justification for leopard quotas approved by the CITES Conference of the Parties in Resolution Conf. 10.14 (Rev. CoP16), Quotas for leopard hunting trophies and skins for personal use. This document should propose a new procedure for establishment and review of such quotas, including that any Party wishing to retain their leopard quota provide scientific justification for continuing the quota at each meeting of the Conference of the Parties to CITES; and all matters related to establishment, continuance or increase of leopard quotas be approved by a two-thirds majority vote of the Parties.

6. Registration of operations that breed Appendix-I avian species in captivity for commercial purposes: Recommendation that the United States reevaluate the process for the registration of operations that breed Appendix-I avian species in captivity for commercial purposes. Recommendation that Decision 17.258 be applied to all animal species for the evaluation of applications to register facilities that breed Appendix-I animal species for commercial purposes; all Appendix-I species that were legally imported under Appendix II, prior to their inclusion on Appendix I, should be afforded the opportunity to become registered, taking into consideration the CITES trade data as a means of establishing whether imports from a species/country combination will qualify. Recommendation that the United States propose that Decision 17.258 be amended and adopted into Resolution Conf. 12.10 (Rev CoP15), on Registration of operations that breed Appendix-I animal species in captivity for commercial purposes.

7. Specimens of Appendix-I listed species bred in non-range States with large prolific captive populations, i.e. Psittacus erithacus, Cyanoramphusnovaezealandiae, Psephotus dissimilis and chrysopterygius (and several others), be treated as an Appendix-II species for the purposes of trade:

Recommendation that special consideration be given to range States with economically important captive populations.

8. Laundering: Recommendation that, in a case where a Management Authority suspects that a facility may be laundering illegal specimens and there is insufficient recordkeeping to prove paternity, an available, established, and proven scientific method should be used to determine parentage of suspect specimens.

9. Criteria: Recommendation that the United States propose that additional criteria be established for future amendments to the CITES Appendices for commercially important animal species with prolific captive populations that limit the disruptive and detrimental impact of such an action on the livelihoods of indigenous communities and bona fide breeding operations.

10. Bear bile and bear gall bladder: Recommendation that the United States propose amendments to Resolution Conf. 10.8 (Rev. CoP14), on Conservation of and trade in bears, or decisions that strategically address the threat of trade in bear bile products and demand for illegally sourced bear bile products.

11. Disposal of confiscated specimens: Recommendation that the United States prepare draft decisions that would direct the Secretariat to request information from Parties on the scope of this problem and potential solutions and report to the Animals, Plants, and Standing Committees, and direct the Committees to prepare recommendations, including providing financial assistance so that Parties can either destroy such specimens or dispose of them in a manner consistent with Resolution Conf. 17.8, Disposal of illegally trade and confiscated specimens of CITES-listed species, and submit these recommendations to the next meeting of the Conference of the Parties.

12. Species not yet listed in the CITES appendices: Recommendation that the United States submit a working document regarding unlisted species, providing guidance to Parties in ensuring that “the Appendices correctly reflect the conservation needs of species.”

13. Tortoises and freshwater turtles: Recommendation that U.S. conservation efforts related to these species continue. Recommendation that the United States ensure that this issue is on the agenda at CITES CoP18 in order to further examine what steps might be necessary to protect these taxa from the threats of illegal and/or unsustainable trade.

14. Asian big cats: Recommendation that the United States propose a Resolution at CoP18 to more effectively address tiger farming and the trade in captive-bred Asian big cats and their parts. Recommendation that the United States recommend: Parties impose sanctions against any Party who does not comply with Decision 17.226; Parties gain public participation to reduce illegal sales, including educating and empowering citizens in range countries to conserve tigers; Parties impose appropriate sentences and penalties to meaningfully deter trade of tigers or tiger parts, including by imposing sanctions on Parties that create loopholes for the purpose of circumventing their treaty obligations.

15. Captive-bred and ranched specimens (and laundering of wild-caught animals): Recommendation that the United States submit captive-bred and ranched specimens (and laundering of wild-caught animals) as a separate agenda item, or to ensure that the Secretariat will include it as a standalone agenda item; recommendation that the United States consider submission of a document highlighting the problem.

16. Legal acquisition findings: Recommendation that the United States ensure that the issue is discussed under a separate agenda item at CoP18.

17. Ginseng: Recommendation that the United States recommend at CoP18 that all Parties to CITES are to recognize “personal exemption” for dried cultivated American ginseng (Panax quinquefolius). Maximum amount allowed 4.5 kg.

18. Management Authorities: Recommendation that the United States ensure that the development of a resolution pertaining to CITES Management Authorities properly tracks the responsibilities placed on Management Authorities in the text of the Convention.

19. Electronic permitting: Recommendation that the United States support continued development of a robust electronic permitting system such as eCITES that would eventually allow for universal utilization of electronic permits.

20. Rural communities: Recommendation that the United States submit a draft Resolution to prepare draft decisions that would suspend the operation of the Working Group, direct the Standing Committee to prepare appropriate criteria for membership, review existing and proposed members in the light of these criteria and of the need for both regional balance and a balance of views, and only reconstitute the Working Group once these criteria have been adopted by the Conference of the Parties.

21. Destruction of ivory stockpiles: Recommendation that the United States submit a document calling on all Parties planning to destroy their ivory stocks to conduct independently audited inventories before any destruction events and to make samples of the seized ivory available for DNA- and/or isotope-based analysis. Recommendation that the United States support making available materials and guidance on best practices for the management of ivory stockpiles, including their disposal when applicable. Recommendation that the United States support a decision at the CoP to endorse the dissemination (through the CITES website and other means) of the stockpile management system of the organization “Stop Ivory,” which has been used successfully by several countries.

22. Other species-specific matters: Recommendation that the United States ensure that the following issues are on the CoP18 agenda: Other aspects of wildlife trafficking, great apes, Asian big cats in captivity, illegal trade in cheetahs, Monitoring the Illegal Killing of Elephants (MIKE) and the Elephant Trade Information System (ETIS), saiga antelope, and CITES and livelihoods.

Request for Information and Comments

We invite information and comments concerning any of the possible CoP18 species proposals, resolutions, decisions, and agenda items discussed above. You must submit your information and comments to us no later than the date specified in DATES, above, to ensure that we consider them. Comments and materials received will be posted for public inspection on http://www.regulations.gov, and will be available by appointment, from 8 a.m. to 4 p.m., Monday through Friday, at the Division of Management Authority (see ADDRESSES). Our practice is to post all comments, including names and addresses of respondents, and to make comments, including names and home addresses of respondents, available for public review during regular business hours.

There may be circumstances in which we would withhold from public review a respondent's name and/or address, as allowable by law. If you wish for us to withhold your name and/or address, you must state this prominently at the beginning of your comment, but we cannot guarantee that we will be able to do so. We will make all comments and materials submitted by organizations or businesses, and by individuals identifying themselves as representatives or officials of organizations or businesses, available for public inspection in their entirety.

Observers

Article XI, paragraph 7, of CITES states that “Any body or agency technically qualified in protection, conservation or management of wild fauna and flora, in the following categories, which has informed the Secretariat of its desire to be represented at meetings of the Conference by observers, shall be admitted unless at least one-third of the Parties present object:

(a) International agencies or bodies, either governmental or non-governmental, and national governmental agencies and bodies; and

(b) national non-governmental agencies or bodies which have been approved for this purpose by the State in which they are located. Once admitted, these observers shall have the right to participate but not to vote.”

Persons wishing to be observers representing international nongovernmental organizations (which must have offices in more than one country) at CoP18 may request approval directly from the CITES Secretariat. Persons wishing to be observers representing U.S. national nongovernmental organizations at CoP18 must receive prior approval from our Division of Management Authority (ADDRESSES). Once we grant our approval, a U.S. national nongovernmental organization is eligible to register with the Secretariat and must do so at least 6 weeks prior to the opening of CoP18 to participate in CoP18 as an observer. Individuals who are not affiliated with an organization may not register as observers. An international nongovernmental organization with at least one office in the United States may register as a U.S. non-governmental organization if it prefers.

Any organization that submits a request to us for approval as an observer should include evidence of their technical qualifications in protection, conservation, or management of wild fauna or flora, for both the organization and the individual representative(s). The request should include copies of the organization's charter and any bylaws, and a list of representatives it intends to send to CoP18. Organizations seeking approval for the first time should detail their experience in the protection, conservation, or management of wild fauna or flora, as well as their purposes for wishing to participate in CoP18 as an observer. An organization that we have previously approved as an observer at a meeting of the Conference of the Parties within the past 5 years must submit a request, but does not need to provide as much detailed information concerning its qualifications as an organization seeking approval for the first time. These requests should be sent to the Division of Management Authority at the address provided in ADDRESSES, above; via email to managementauthority@fws.gov; or via fax to 703-358-2298.

Once we approve an organization as an observer, we will inform them of the appropriate page on the CITES website where they may obtain instructions for registration with the CITES Secretariat, including a meeting registration form and travel and hotel information. A list of organizations approved for observer status at CoP18 will be available upon request from the Division of Management Authority just prior to the start of CoP18.

Future Actions

We expect the CITES Secretariat to provide us with a provisional agenda for CoP18 within the next several months. Once we receive the provisional agenda, we will publish it in a Federal Register notice and provide the Secretariat's website address. We will also provide the provisional agenda on our website, at http://www.fws.gov/international/CITES/CoP18/index.html.

The United States must submit any proposals to amend Appendix I or II, or any draft resolutions, decisions, or agenda items for discussion at CoP18, to the CITES Secretariat 150 days (i.e., by December 24, 2018) prior to the start of the meeting. In order to meet this deadline and to prepare for CoP18, we have developed a tentative U.S. schedule. We will consider all available information and comments we receive during the comment period for this Federal Register notice as we decide which species proposals and which proposed resolutions, decisions, and agenda items warrant submission by the United States for consideration by the Parties. Approximately 4 months prior to CoP18, we will post on our website an announcement of the species proposals, draft resolutions, draft decisions, and agenda items submitted by the United States to the CITES Secretariat for consideration at CoP18.

Through a series of additional notices and website postings in advance of CoP18, we will inform you about preliminary negotiating positions on resolutions, decisions, and amendments to the Appendices proposed by other Parties for consideration at CoP18. We will also publish an announcement of a public meeting to be held approximately 2 to 3 months prior to CoP18, to receive public input on our positions regarding CoP18 issues.

The procedures for developing U.S. documents and negotiating positions for a meeting of the Conference of the Parties to CITES are outlined in 50 CFR 23.87. As noted in paragraph (c) of that section, we may modify or suspend the procedures outlined there if they would interfere with the timely or appropriate development of documents for submission to the CoP and of U.S. negotiating positions.

Authors

The primary authors of this notice are Thomas E.J. Leuteritz, Ph.D., Branch Chief, Division of Scientific Authority, and Laura S. Noguchi, Branch Chief, Division of Management Authority, U.S. Fish and Wildlife Service.

Authority

The authority for this action is the Endangered Species Act of 1973, as amended (16 U.S.C. 1531 et seq.).

James W. Kurth,
Deputy Director, U.S. Fish and Wildlife Service, Exercising the Authority of the Director, U.S. Fish and Wildlife Service.

[FR Doc. 2018-21255 Filed 9-28-18; 8:45 am]

BILLING CODE 4333-15-P